DEPARTMENT OF LABOR

Employment and Training Administration

[TA-W-82,156]

Johnstown Specialty Castings, Inc., a Subsidiary of WHEMCO, Johnstown, Pennsylvania; Notice of Affirmative Determination Regarding Application for Reconsideration

By application dated February 2, 2013, United Steelworkers, Local Union 2632, Unit 16, requested administrative reconsideration of the negative determination regarding workers' eligibility to apply for Trade Adjustment Assistance (TAA) applicable to workers and former workers of Johnstown Specialty Castings, Inc., a subsidiary of WHEMCO, Johnstown, Pennsylvania (subject firm). The determination was issued on January 8, 2013. The workers' firm is engaged in activities related to the production of steel castings, slag pots, steel rolls, steel sleeves, and mill liners.

The initial investigation resulted in a negative determination based on the findings that, with respect to Section 222(a) of the Act, the investigation revealed that Criterion (1) has not been met because a significant number or proportion of the workers in the workers' firm have not become totally or partially separated, and are not threatened to become totally or partially separated.

The request for reconsideration included information regarding possible worker separations in the near future. The Department has carefully reviewed the request for reconsideration and the existing record, and will conduct further investigation to determine if workers have met the eligibility requirements of the Trade Act of 1974, as amended.

Conclusion

After careful review of the application, I conclude that the claim is of sufficient weight to justify reconsideration of the U.S. Department of Labor's prior decision. The application is, therefore, granted.

Signed at Washington, DC, this 25th day of February, 2013.
Del Min Amy Chen,
Certifying Officer, Office of Trade Adjustment Assistance.

[FR Doc. 2013-05458 Filed 3-7-13; 8:45 am]

BILLING CODE 4510-FN-P